DEPARTMENT OF HOMELAND SECURITY

U.S. Citizenship and Immigration Services

Agency Information Collection Activities: Form I-918, and Supplement A and B, Extension of a Currently Approved Information Collection; Comment Request

ACTION: 60-Day Notice of Information Collection Under Review: Form I-918, Petition for U Nonimmigrant Status; and Supplement A and B.

The Department of Homeland Security, U.S. Citizenship and Immigration Services (USCIS) has submitted the following information collection request for review and clearance in accordance with the Paperwork Reduction Act of 1995. The information collection notice is published in the Federal Register to obtain comments from the public and affected agencies. Comments are encouraged and will be accepted for sixty days until July 9, 2012.

Written comments and suggestions regarding items contained in this notice, and especially with regard to the estimated public burden and associated response time should be directed to the Department of Homeland Security (DHS), USCIS, Chief Regulatory Coordinator, Regulatory Coordination Division, Clearance Office, 20 Massachusetts Avenue NW., Washington, DC 20529. Comments may also be submitted to DHS via facsimile to 202-272-8518, or via email at uscisfrcomment@dhs.gov. When submitting comments by email, add the OMB Control Number 1615-0104 in the subject box.

During this 60-day period USCIS will be evaluating whether to revise the Form I-918 and Supplements A and B. Should USCIS decide to revise the Form I-918 and Supplements A and B, it will advise the public when it publishes the 30-day notice in the Federal Register in accordance with the Paperwork Reduction Act. The public will then have 30 days to comment on any revisions to the Form I-918, and Supplement A and B.

Written comments and suggestions from the public and affected agencies concerning the proposed collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Petition for U Nonimmigrant Status.

(3) Agency form number, if any, and the applicable component of the Department of Homeland Security sponsoring the collection: Form I-918 and Supplements A and B; U.S. Citizenship and Immigration Services.

(4) Affected public who will be asked or required to respond, as well as a brief abstract: Form I-918: Individuals or households. This application permits victims of certain qualifying criminal activity and their immediate family members to apply for temporary nonimmigrant status.

Form I-918 Supplement A: Individuals or households. This application permits victims of certain qualifying criminal activity and their immediate family members to apply for temporary nonimmigrant status.

Form I-918 Supplement B: Federal, State, Local governments. Federal, State, or local law enforcement agencies, prosecutors, judges, or other authority, that has responsibility for the investigation or prosecution of a qualifying crime or criminal activity can complete this supplement so it can be filed by the applicant along with form I-918.

(5) An estimate of the total number of respondents and the amount of time estimated for an average respondent to respond: Form I-918—16,768 responses at 5 hours per response; Supplement A—10,033 responses at 1.5 hours per response; Supplement B—16,768 responses at 1 hour per response.

(6) An estimate of the total public burden (in hours) associated with the collection: 120,651 annual burden hours.

If you have additional comments, suggestions, or need a copy of the information collection instrument, please visit: http://www.regulations.gov/.

We may also be contacted at: USCIS, Regulatory Coordination Division, Office of Policy and Strategy, 20 Massachusetts Avenue NW., Washington, DC 20529, telephone number 202-272-1470.

Dated: May 3, 2012.
Laura Dawkins,
Acting Chief Regulatory Coordinator, Regulatory Coordination Division, Office of Policy and Strategy, U.S. Citizenship and Immigration Services.

[FR Doc. 2012-11127 Filed 5-8-12; 8:45 am]

BILLING CODE 9111-97-P